DEPARTMENT OF HEALTH AND HUMAN SERVICES

National Institutes of Health

National Institute of Child Health and Human Development; Amended Notice of Meeting

Notice is hereby given of a change in the meeting of the Population Research Subcommittee, March 25, 2002, 8 a.m. to March 26, 2002, 5 p.m., Four Points By Sheraton, 8400 Wisconsin Avenue, Bethesda, MD, 20814 which was published in the Federal Register on February 19, 2002, 67 FR 7385.

The meeting will be held on March 25, 2002. The meeting is closed to the public.

Dated: February 25, 2002.
LaVerne Y. Stringfield,
Director, Office of Federal Advisory Committee Policy.

[FR Doc. 02-5017 Filed 3-1-02; 8:45 am]

BILLING CODE 4140-01-M